DEPARTMENT OF COMMERCE

Foreign-Trade Zones Board

[Docket 21-2000]

Foreign-Trade Zone 183—Austin, Texas; Application for Expansion

An application has been submitted to the Foreign-Trade Zones Board (the Board) by the Foreign Trade Zone of Central Texas, Inc., grantee of FTZ 183, requesting authority to expand FTZ 183-Site 3 (High Tech Corridor site) in Austin, Texas. The application was submitted pursuant to the provisions of the Foreign-Trade Zones Act, as amended (19 U.S.C. 81a-81u), and the regulations of the Board (15 CFR part 400). It was formally filed on May 26, 2000.

FTZ 183 was approved on December 23, 1991 (Board Order 550, 57 FR 42, ­ 1/2/92), expanded twice in 1998 (Board Order 964, 63 FR 12837, 3/23/98; Board Order 994, 63 FR 39071, 7/21/98), and expanded in 1999 (Board Order 1035, 64 FR 19978, 4/23/99). The zone currently consists of eight sites in the Austin, Texas, area: Site 1 (317 acres, 7 parcels)—Austin Enterprise site, within the Austin Enterprise Zone Area along Highway 290 and the Ben White Boulevard-Montopolis Drive area, Austin; Site 2 (50 acres)—Balcones Research site located in north central Austin at the intersection of Burnett Road and Longhorn Boulevard; Site 3 (1,336 acres, 11 parcels) High Tech Corridor site located along I-35, 14 miles north of downtown Austin (site straddles Austin-Round Rock City line); Site 4 (122 acres) Cedar Park site, some 8 miles northwest of the Austin city limits, in Williamson County; Site 5 (246 acres, 2 parcels) Round Rock “SSC” site located along I-35 between Chandler Road and Westinghouse Road on the northern edge of the City of Round Rock; Site 6 (246 acres) Georgetown site, located along I-35 and U.S. 81, south of downtown Georgetown; Site 7 (40 acres) San Marcos site, located within the San Marcos Municipal Airport facility in eastern San Marcos, adjacent to State Highway 21, on the Hays County/Caldwell County line; and, Site 8 (200 acres) MET Center industrial park located between U.S. Highway 183 South and State Highway 71 East in southeast Austin, some 5 miles northwest of the new Austin Bergstrom International Airport.

The applicant is now requesting authority to expand Site 3 to include two additional parcels (276 acres), located to the west of the existing site. The area consists of the tech.ridge corporate center and the Wells Branch Industrial Park. This proposed change will increase the FTZ area at Site 3 to 1,612 acres. No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is August 4, 2000. Rebuttal comments in response to material submitted during the foregoing period may be submitted during the subsequent 15-day period (to August 21, 2000).

A copy of the application and accompanying exhibits will be available for public inspection at each of the following locations:

U.S. Department of Commerce, Export Assistance Center, 1700 Congress, Second Floor, Austin, TX 78701.

Office of the Executive Secretary, Foreign-Trade Zones Board, U.S. Department of Commerce, 14th & Pennsylvania Avenue, NW, Room 4008, Washington DC 20230.

Dated: May 26, 2000.
Dennis Puccinelli,
Acting Executive Secretary.

[FR Doc. 00-14030 Filed 6-2-00; 8:45 am]

BILLING CODE 3510-DS-P